ENVIRONMENTAL PROTECTION AGENCY

40 CFR Part 52

[MA-24-01-7201c; A-1-FRL-6892-9]

Approval and Promulgation of Air Quality Implementation Plans; Massachusetts; (Amendment to Massachusetts' SIP [For Ozone and for Carbon Monoxide] for City of Cambridge Vehicle Trip Reduction Program—in the Metropolitan Boston Air Pollution Control District); Extension of Comment Period

AGENCY: Environmental Protection Agency (EPA).

ACTION: Proposed rule; reopening of comment period.

SUMMARY: EPA is extending the comment period for its proposed action to approve a State Implementation Plan (SIP) revision submitted by the Commonwealth of Massachusetts. This revision establishes, and requires the City of Cambridge to implement and operate, the City of Cambridge Vehicle Trip Reduction Program as a substitute for the commercial parking control measures currently in the SIP.

DATES: Comments must be received on or before December 18, 2000. Public comments on this document are requested and will be considered before taking final action on this SIP revision.

ADDRESSES: Comments may be mailed to David Conroy, Unit Manager, Air Quality Planning , Office of Ecosystem Protection (mail code CAQ), U.S. Environmental Protection Agency, EPA—New England, One Congress Street, Suite 1100, Boston, MA 02114-2023. Copies of the State submittal and EPA's technical support document are available for public inspection during normal business hours, by appointment at the Office of Ecosystem Protection, U.S. Environmental Protection Agency, EPA-New England, One Congress Street, 11th floor, Boston, MA and the Bureau of Waste Prevention, Department of Environmental Protection, One Winter Street, 8th floor, Boston, MA.

FOR FURTHER INFORMATION CONTACT: Donald O. Cooke, (617) 918-1668 or e-mail COOKE.DONALD@EPA.GOV.

SUPPLEMENTARY INFORMATION: On September 18, 2000 (65 FR 56278-56283), EPA proposed a revision to the Massachusetts State Implementation Plan (SIP) for Ozone and Carbon Monoxide, for a City of Cambridge Vehicle Trip Reduction Program in the Metropolitan Boston Air Pollution Control District. The revision consists of Massachusetts's new state regulation 310 CMR 60.04—“City of Cambridge Vehicle Trip Reduction Program.”

The proposal provided a 30 day public comment period that was originally scheduled to end October 18, 2000. In response to a request from the Massachusetts Department of Environmental Protection as well as a request from a representative for the City of Cambridge, EPA is extending the comment period for an additional 60 days.

Dated: October 13, 2000.
Mindy S. Lubber,
Regional Administrator, EPA—New England.

[FR Doc. 00-27580 Filed 10-25-00; 8:45 am]

BILLING CODE 6560-50-P